DEPARTMENT OF JUSTICE

Notice of Lodging of Proposed Consent Decree Under the Comprehensive Environmental Response, Compensation and Liability Act

On December 19, 2019, the Department of Justice lodged a proposed Consent Decree with the United States District Court for the Northern District of Oklahoma in the lawsuit entitled United States, et al. v. Cyprus Amax Minerals Company, Case No. 4:19-cv-00697-GKF-JFJ. The proposed Consent Decree resolves the United States' claims, on behalf of the United States Department of the Interior, and claims of the Cherokee Nation, the Delaware Tribe of Indians, and the Osage Nation (“Plaintiffs” or “trustees”), under Section 107 of the Comprehensive Environmental Response, Compensation, and Liability Act (“CERCLA”), 42 U.S.C. 9607, for the recovery of damages for injury to, destruction of, loss of, and loss of use of natural resources and their services resulting from the release and threat of a release of hazardous substances at and from the National Zinc Corporation Site, including one or more smelters, located near West 11th and Virginia Streets, on the west side of Bartlesville, Washington County, Oklahoma. Plaintiffs are trustees for those natural resources. Under the proposed Consent Decree, Cyprus Amax agrees to pay the sum of $1,696,500 to reimburse the trustees for past assessment costs and to fund future restoration actions to resolve the Plaintiffs' claims.

The publication of this notice opens a period for public comment on the Consent Decree. Comments should be addressed to the Assistant Attorney General, Environment and Natural Resources Division, and should refer to United States, et al. v. Cyprus Amax Minerals Company, Case No. 4:19-cv-00697-GKF-JFJ, D.J. Ref. No. 90-11-2-10689. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department website: http://www.usdoj.gov/enrd/Consent_Decrees.html. We will provide a paper copy of the Consent Decree upon written request and payment of reproduction costs. Please mail your request and payment to: Consent Decree Library, U.S. DOJ—ENRD, P.O. Box 7611, Washington, DC 20044-7611.

Please enclose a check or money order for $7.75 (25 cents per page reproduction cost) payable to the United States Treasury.

Thomas Carroll,
Assistant Section Chief, Environmental Enforcement Section, Environment and Natural Resources Division.

[FR Doc. 2020-00045 Filed 1-7-20; 8:45 am]

BILLING CODE 4410-15-P